DEPARTMENT OF HEALTH AND HUMAN SERVICES

Center for Indigenous Innovation and Health Equity Tribal Advisory Committee; Solicitation of Nominations for Delegates

AGENCY: Office of Minority Health, Office of the Secretary, Department of Health and Human Services.

ACTION: Notice.

SUMMARY: The U.S. Department of Health and Human Services (HHS) Office of Minority Health (OMH) hereby gives notice that OMH is accepting nominations of candidates to serve as primary and alternate delegates for the Center for Indigenous Innovation and Health Equity Tribal Advisory Committee (CIIHE TAC).

DATES: Tribal leaders are encouraged to submit their nomination letters for CIIHE TAC delegates by January 17, 2024, at the address listed below. OMH will continue to receive nominations until all CIIHE TAC primary and alternate delegate positions are filled.

ADDRESSES: All nominations should be emailed to minorityhealth@hhs.gov. Please use the subject line “CIIHE TAC Nomination.”

FOR FURTHER INFORMATION CONTACT: For information and guidance about the nomination process for CIIHE TAC delegates, please contact Rochelle Rollins, Senior Policy Advisor, at Rochelle.Rollins@hhs.gov. Sample CIIHE TAC nomination letters are available on the OMH website: https://minorityhealth.hhs.gov/ciihe-tribal-advisory-committee-tac.

SUPPLEMENTARY INFORMATION: Authorized under Section 1707 of the Public Health Service Act, 42 U.S.C. 300u-6, as amended, the mission of OMH is to improve the health of racial and ethnic minority and American Indian and Alaska Native (AI/AN) populations through the development of health policies and programs that help eliminate health disparities. OMH awards and other activities are intended to support the identification of effective policies, programs, and practices that improve health outcomes and to promote the sustainability and dissemination of these approaches.

Through the Joint Explanatory Statement (JES) accompanying the 2021 Consolidated Appropriations Act, Congress directed OMH to create the CIIHE to advance Indigenous solutions that ultimately address health disparities in AI/AN and Native Hawaiian and Pacific Islander populations. Congress identified four CIIHE priority areas: research, education, service, and policy development. The JES accompanying the subsequent annual appropriations acts has included language for OMH to continue funding the CIIHE.

OMH established the CIIHE TAC to provide Tribal leaders a venue to exchange views, share information, and provide feedback to OMH on the development of activities addressing the four CIIHE priority areas. The CIIHE TAC shall support, but not supplant, government-to-government consultation activities that OMH undertakes.

TAC Membership: The CIIHE TAC will consist of 16 delegate positions: one from each of the 12 geographic areas served by the Indian Health Service (IHS) and four National At-Large Member positions.

Alaska Area

Albuquerque Area

Bemidji Area

Billings Area

California Area

Great Plains Area

Nashville Area

Navajo Area

Oklahoma Area

Phoenix Area

Portland Area

Tucson Area

National At-Large Members (4)

The CIIHE TAC charter establishes a two (2) year term length for each delegate. There are vacancies for all IHS areas, except the Navajo and Tucson Areas, due to the ending of the CIIHE TAC members' 2-year terms.

Eligibility: The CIIHE TAC delegates must be: (1) Elected Tribal officials from a federally recognized Tribe acting in their official capacity as elected officials of their Tribe, with authority to act on behalf of the Tribe; or (2) individuals designated by an elected Tribal official. Designees must have the authority to act on behalf of the Tribal official and the Tribe and be qualified to represent the views of the AI/AN Tribes in the area from which they are nominated. No delegate of the CIIHE TAC may be an employee of the federal government.

Nomination Procedures: CIIHE TAC candidates must be nominated by an elected Tribal leader. The nomination letter must be on Tribal letterhead and signed by an elected Tribal leader, and must include the following information:

• Name of the nominee

• Nominee's official title

• Name of the nominee's tribe

• Date of nominee's election to official Tribal position and term length

• Nominee's contact information (mailing address, phone, and email)

• Nominee's expertise that is relevant to the CIIHE TAC

• Name of Tribal leader submitting the nomination

• Official title of Tribal leader submitting the nomination

• Contact information for Tribal leader submitting the nomination and/or the administrative office for the Tribal government

Sample CIIHE TAC nomination letters are available on the OMH website: https://minorityhealth.hhs.gov/ciihe-tribal-advisory-committee-tac.

Selection Process: OMH is responsible for selecting and finalizing CIIHE TAC delegates.

Eligible nominees will be considered in the following priority order:

1. Tribal President/Chairperson/Governor

2. Tribal Vice-President/Vice-Chairperson/Lt. Governor

3. Elected or Appointed Tribal Official

4. Designated Tribal Official with authority to act on behalf of the Tribal Leader

In the event there are multiple nominations for a given IHS area, OMH will determine the delegates based on a review of the submitted nomination materials.

Nominees will be notified of the status of delegate selection in February 2024.

Dated: December 16, 2024.
Capt. Tarsha Cavanaugh,
Principal Deputy Director, Office of Minority Health.

[FR Doc. 2025-00210 Filed 1-7-25; 8:45 am]

BILLING CODE 4150-29-P